COMMISSION ON CIVIL RIGHTS

Agenda and Notice of Public Meeting of the District of Columbia Advisory Committee

Notice is hereby given, pursuant to the provisions of the rules and regulations of the U.S. Commission on Civil Rights, that a meeting of the District of Columbia Advisory Committee to the Commission will convene at 8:30 a.m. and adjourn at 4 p.m. on Thursday, March 15, 2001, at the U.S. Commission on Civil Rights, 624 9th Street NW., 5th Floor Conference Room (Room 540), Washington, DC 20425. The Advisory Committee will conduct a forum to receive information from Federal and District of Columbia government officials and financial services representatives concerning equal access to financial services in the District. Issues to be discussed include predatory lending, computer generated credit scoring, and changes in the banking industry.

Persons desiring additional information, or planning a presentation to the Committee, should contact Committee Chairperson or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, February 9, 2001.
Edward A. Hailes, Jr.,
General Counsel.

[FR Doc. 01-3917 Filed 2-15-01; 8:45 am]

BILLING CODE 6335-01-P